DEPARTMENT OF AGRICULTURE

Rural Housing Service

7 CFR Part 3555

RIN 0575-AD10

Single Family Housing Guaranteed Loan Program; Correction

AGENCY: Rural Housing Service, USDA.

ACTION: Final rule; correction.

SUMMARY: On July 22, 2019, the Rural Housing Service (RHS) published a final rule concerning construction to permanent loan financing, repair or rehabilitation financing, and the removal of a maximum the interest rate cap for the Single Family Housing Guaranteed Loan Program. The effective date was published as August 21, 2019 and is being deferred to October 1, 2019.

DATES: Effective on August 21, 2019.

FOR FURTHER INFORMATION CONTACT: Joaquín Tremols, Director, Single Family Housing Guaranteed Loan Division, USDA, Rural Development, 1400 Independence Avenue SW, Room 2250, Stop 0784, Washington, DC 20250, telephone (202) 720-1465, Email: joaquin.tremols@wdc.usda.gov.

SUPPLEMENTARY INFORMATION:

Correction

In FR Doc. 19-15450, appearing on page 35003 in the Federal Register of Monday, July 22, 2019, correct DATES caption to read:

Dates: Effective on October 1, 2019.

Bruce W. Lammers,
Administrator, Rural Housing Service.

[FR Doc. 2019-17683 Filed 8-16-19; 8:45 am]

BILLING CODE 3410-XV-P